LIBRARY OF CONGRESS

Copyright Office

[Docket No. 2010-4]

Federal Copyright Protection of Sound Recordings Fixed Before February 15, 1972

AGENCY: Copyright Office, Library of Congress.

ACTION: Notice of inquiry; correction.

This document corrects the reply comment date contained in the notice of inquiry published Wednesday, November 3, 2010 (75 FR 67777). The correct reply comment date is January 19, 2011.

Dated: November 15, 2010.
David O. Carson,
General Counsel.

[FR Doc. 2010-29139 Filed 11-17-10; 8:45 am]

BILLING CODE P